FARM CREDIT ADMINISTRATION

12 CFR Parts 611 and 620

RIN 3052-AB85

Organization; Disclosure to Shareholders; Regulatory Burden; Correction

AGENCY: Farm Credit Administration (FCA).

ACTION: Correcting amendment.

SUMMARY: The Farm Credit Administration (FCA) published a direct Final rule (64 FR 43046, August 9, 1999) that reduced regulatory burden on the Farm Credit System (FCS or System) by repealing or amending 16 regulations. This document corrects technical errors in the direct final rule.

EFFECTIVE DATE: October 13, 1999.

FOR FURTHER INFORMATION CONTACT: Cindy R. Nicholson, Technical Editor, Office of Policy and Analysis, Farm Credit Administration, McLean, VA 22102-5090, (703) 883-4498, TDD (703) 883-4444.

SUPPLEMENTARY INFORMATION: We inadvertently failed to make a nomenclature change in the Regulatory Burden direct final rule published on August 9, 1999 (64 FR 43046) which affected §§ 611.400 and 620.5.

List of Subjects in 12 CFR Parts 611 and 620

Accounting, Agriculture, Banks, banking, Reporting and recordkeeping requirements, Rural areas.

For the reasons stated above, parts 611 and 620 of chapter VI, title 12 of the Code of Federal Regulations are corrected as follows:

PART 611—ORGANIZATION

1. The authority citation for part 611 continues to read as follows:

Authority: Secs. 1.3, 1.13, 2.0, 2.10, 3.0, 3.21, 4.12, 4.15, 4.20, 4.21, 5.9, 5.10, 5.17, 7.0-7.13, 8.5(e) of the Farm Credit Act (12 U.S.C. 2011, 2021, 2071, 2091, 2121, 2142, 2183, 2203, 2208, 2209, 2243, 2244, 2252, 2279a-2279f-1, 2279aa-5(e)); secs. 411 and 412 of Pub. L. 100-233, 101 Stat. 1568, 1638; secs. 409 and 414 of Pub. L. 100-399, 102 Stat. 989, 1003, and 1004.

Subpart D—Rules for Compensation of Board Members

2. Section 611.400 is amended by correcting paragraph (e) to read as follows:

§ 611.400 Compensation of bank board members.

* * * * *

(e) Directors may also be reimbursed for reasonable travel, subsistence, and other related expenses in accordance with the bank's policy.

PART 620—DISCLOSURE TO SHAREHOLDERS

3. The authority citation for part 620 continues to read as follows:

Authority: Secs. 5.17, 5.19, 8.11 of the Farm Credit Act (12 U.S.C. 2252, 2254, 2279aa-11); sec. 424 of Pub. L. 100-233, 101 Stat. 1568, 1656.

Subpart B—Annual Report to Shareholders

4. Section 620.5 is amended by correcting the first sentence of paragraph (i)(3)(i) to read as follows:

§ 620.5 Contents of the annual report to shareholders.

* * * * *

(i) * * *

(3) * * *

(i) Briefly describe your policy addressing reimbursements for travel, subsistence, and other related expenses as it applies to directors and senior officers. * * *

* * * * *

Dated: February 10, 2000.
Vivian L. Portis,
Secretary Farm Credit Administration Board.

[FR Doc. 00-3681 Filed 2-16-00; 8:45 am]

BILLING CODE 6705-01-P